DEPARTMENT OF ENERGY

Federal Energy Regulatory Commission

Combined Notice of Filings #1

Take notice that the Commission received the following electric corporate filings:

Docket Numbers: EC21-114-000.

Applicants: AES Corporation, Alberta Investment Management Corporation, Valcour Wind Energy, LLC, Valcour Altona Windpark, LLC, Valcour Bliss Windpark, LLC, Valcour Chateaugay Windpark, LLC, Valcour Clinton Windpark, LLC, Valcour Ellenburg Windpark, LLC, Valcour Wethersfield Windpark, LLC.

Description: Joint Application for Authorization Under Section 203 of the Federal Power Act of AES Corporation, et al.

Filed Date: 8/13/21.

Accession Number: 20210813-5251.

Comment Date: 5 p.m. ET 9/3/21.

Take notice that the Commission received the following exempt wholesale generator filings:

Docket Numbers: EG21-220-000.

Applicants: PGR 2021 Lessee 5, LLC.

Description: Notice of Self-certification of Exempt Wholesale Generator Status of PGR 2021 Lessee 5, LLC.

Filed Date: 8/13/21.

Accession Number: 20210813-5154.

Comment Date: 5 p.m. ET 9/3/21.

Take notice that the Commission received the following electric rate filings:

Docket Numbers: ER04-835-015.

Applicants: California Independent System Operator Corporation, Pacific Gas and Electric Company.

Description: Petition for Approval of Uncontested Settlement Agreement of California Independent System Operator Corporation, et al.

Filed Date: 8/13/21.

Accession Number: 20210813-5244.

Comment Date: 5 p.m. ET 9/3/21.

Docket Numbers: ER18-1639-012.

Applicants: Constellation Mystic Power, LLC.

Description: Compliance filing: Fifth Compliance Filing to be effective 6/1/2022.

Filed Date: 8/16/21.

Accession Number: 20210816-5161.

Comment Date: 5 p.m. ET 9/7/21.

Docket Numbers: ER20-2364-002.

Applicants: Midcontinent Independent System Operator, Inc.

Description: Compliance filing: 2021-08-16_SA 3512 Compliance Filing NSP-NSP Sub FSA (J399) to be effective 7/7/2020.

Filed Date: 8/16/21.

Accession Number: 20210816-5155.

Comment Date: 5 p.m. ET 9/7/21.

Docket Numbers: ER20-2373-001.

Applicants: Midcontinent Independent System Operator, Inc.

Description: Compliance filing: 2021-08-16_SA 3049 Compliance Filing NSP-NSP Sub 1st Rev GIA (J399) to be effective 7/7/2020.

Filed Date: 8/16/21.

Accession Number: 20210816-5139.

Comment Date: 5 p.m. ET 9/7/21.

Docket Numbers: ER21-1858-002.

Applicants: Northern States Power Company, a Minnesota corporation.

Description: Tariff Amendment: CAPX2020-BRKGS-OMA-537-Supp Filing-0.1.2 to be effective 10/12/2021.

Filed Date: 8/13/21.

Accession Number: 20210813-5148.

Comment Date: 5 p.m. ET 9/3/21.

Docket Numbers: ER21-2677-000.

Applicants: Midcontinent Independent System Operator, Inc.

Description: Compliance filing: 2021-08-13_MISO and SPP Compliance filing re Pseudo-Tie to be effective 3/31/2022.

Filed Date: 8/13/21.

Accession Number: 20210813-5145.

Comment Date: 5 p.m. ET 9/3/21.

Docket Numbers: ER21-2678-000.

Applicants: Westlands Transmission, LLC.

Description: Initial rate filing: Transmission Service Agreement with Westlands Solar Blue, LLC to be effective 10/13/2021.

Filed Date: 8/13/21.

Accession Number: 20210813-5156.

Comment Date: 5 p.m. ET 9/3/21.

Docket Numbers: ER21-2679-000.

Applicants: Westlands Transmission, LLC.

Description: Initial rate filing: Transmission Service Agreement with Westlands Grape, LLC to be effective 10/13/2021.

Filed Date: 8/13/21.

Accession Number: 20210813-5158.

Comment Date: 5 p.m. ET 9/3/21.

Docket Numbers: ER21-2680-000.

Applicants: Westlands Transmission, LLC.

Description: Initial rate filing: Transmission Service Agreement with Chestnut Westside, LLC to be effective 10/13/2021.

Filed Date: 8/13/21.

Accession Number: 20210813-5168.

Comment Date: 5 p.m. ET 9/3/21.

Docket Numbers: ER21-2681-000.

Applicants: Westlands Transmission, LLC.

Description: Initial rate filing: Transmission Service Agreement with Westlands Cherry, LLC to be effective 10/13/2021.

Filed Date: 8/13/21.

Accession Number: 20210813-5171.

Comment Date: 5 p.m. ET 9/3/21.

Docket Numbers: ER21-2682-000.

Applicants: Tri-State Generation and Transmission Association, Inc.

Description: § 205(d) Rate Filing: Amendment to Rate Schedule FERC No. 250 to be effective 3/1/2021.

Filed Date: 8/13/21.

Accession Number: 20210813-5190.

Comment Date: 5 p.m. ET 9/3/21.

Docket Numbers: ER21-2683-000.

Applicants: Avista Corporation.

Description: Avista Corporation submits Average System Cost Filing for Sales of Electric Power to the Bonneville Power Administration, FY 2022-2023.

Filed Date: 8/12/21.

Accession Number: 20210812-5189.

Comment Date: 5 p.m. ET 9/2/21.

Docket Numbers: ER21-2684-000.

Applicants: NSTAR Electric Company.

Description: § 205(d) Rate Filing: Medway Grid, LLC—Engineering, Design and Procurement Agreement to be effective 8/17/2021.

Filed Date: 8/16/21.

Accession Number: 20210816-5039.

Comment Date: 5 p.m. ET 9/7/21.

Docket Numbers: ER21-2685-000.

Applicants: AEP Texas Inc.

Description: § 205(d) Rate Filing: AEPTX-Sparta Solar 2nd A&R Generation Interconnection Agreement to be effective 8/3/2021.

Filed Date: 8/16/21.

Accession Number: 20210816-5041.

Comment Date: 5 p.m. ET 9/7/21.

Docket Numbers: ER21-2686-000.

Applicants: AEP Texas Inc.

Description: § 205(d) Rate Filing: AEPTX-Monte Alto I 3rd A&R Generation Interconnection Agreement to be effective 8/3/2021.

Filed Date: 8/16/21.

Accession Number: 20210816-5049.

Comment Date: 5 p.m. ET 9/7/21.

Docket Numbers: ER21-2687-000.

Applicants: PJM Interconnection, L.L.C.

Description: § 205(d) Rate Filing: Original ISA, SA No. 6130; Queue No. AG1-563 and Cancellation of SA No. 3503 to be effective 7/16/2021.

Filed Date: 8/16/21.

Accession Number: 20210816-5088.

Comment Date: 5 p.m. ET 9/7/21.

Docket Numbers: ER21-2688-000.

Applicants: American Electric Power Service Corporation, Ohio Power Company, PJM Interconnection, L.L.C.

Description: § 205(d) Rate Filing: American Electric Power Service Corporation submits tariff filing per 35.13(a)(2)(iii: AEP submits the Palmyra FA re: ILDSA SA No. 1336 to be effective 10/16/2021.

Filed Date: 8/16/21.

Accession Number: 20210816-5089.

Comment Date: 5 p.m. ET 9/7/21.

Docket Numbers: ER21-2689-000.

Applicants: Lick Creek Solar, LLC.

Description: Baseline eTariff Filing: Lick Creek Solar, LLC MBR Tariff to be effective 8/17/2021.

Filed Date: 8/16/21.

Accession Number: 20210816-5117.

Comment Date: 5 p.m. ET 9/7/21.

Docket Numbers: ER21-2690-000.

Applicants: PGR 2021 Lessee 5, LLC.

Description: Baseline eTariff Filing: PGR 2021 Lessee 5, LLC MBR Tariff to be effective 8/17/2021.

Filed Date: 8/16/21.

Accession Number: 20210816-5119.

Comment Date: 5 p.m. ET 9/7/21.

Docket Numbers: ER21-2691-000.

Applicants: Alabama Power Company.

Description: Tariff Amendment: Origis Holdings USA Subco (Hammond II Solar & Storage) LGIA Termination Filing to be effective 8/16/2021.

Filed Date: 8/16/21.

Accession Number: 20210816-5126.

Comment Date: 5 p.m. ET 9/7/21.

Docket Numbers: ER21-2692-000.

Applicants: Midcontinent Independent System Operator, Inc.

Description: § 205(d) Rate Filing: 2021-08-16_TOA Affiliate Sector Participation Framework to be effective 10/16/2021.

Filed Date: 8/16/21.

Accession Number: 20210816-5129.

Comment Date: 5 p.m. ET 9/7/21.

Docket Numbers: ER21-2693-000.

Applicants: Midcontinent Independent System Operator, Inc., Entergy Services, LLC.

Description: § 205(d) Rate Filing: Midcontinent Independent System Operator, Inc. submits tariff filing per 35.13(a)(2)(iii: 2021-08-16_Entergy Att O Clean Up Filing to be effective 10/16/2021.

Filed Date: 8/16/21.

Accession Number: 20210816-5144.

Comment Date: 5 p.m. ET 9/7/21.

Docket Numbers: ER21-2694-000.

Applicants: PJM Interconnection, L.L.C.

Description: § 205(d) Rate Filing: Third Revised ISA, SA No. 5481; Queue No. AF1-014 to be effective 7/16/2021.

Filed Date: 8/16/21.

Accession Number: 20210816-5154.

Comment Date: 5 p.m. ET 9/7/21.

Docket Numbers: ER21-2695-000.

Applicants: Lincoln Land Wind, LLC.

Description: Baseline eTariff Filing: Reactive Power Tariff Application to be effective 11/1/2021.

Filed Date: 8/16/21.

Accession Number: 20210816-5163.

Comment Date: 5 p.m. ET 9/7/21.

Take notice that the Commission received the following electric reliability filings:.

Docket Numbers: RR21-7-000.

Applicants: North American Electric Reliability Corporation.

Description: Petition of the North American Electric Reliability Corporation for Approval of Amendments to the Midwest Reliability Organization Regional Reliability Standards Process Manual.

Filed Date: 8/16/21.

Accession Number: 20210816-5105.

Comment Date: 5 p.m. ET 9/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2021.
Debbie-Anne A. Reese,
Deputy Secretary.

[FR Doc. 2021-17898 Filed 8-19-21; 8:45 am]

BILLING CODE 6717-01-P